DEPARTMENT OF DEFENSE

Defense Acquisition Regulations System

48 CFR Parts 245 and 252

[Docket DARS-2016-0023]

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective August 2, 2016.

FOR FURTHER INFORMATION CONTACT: Ms. Jennifer L. Hawes, Defense Acquisition Regulations System, OUSD(AT&L)DPAP(DARS), Room 3B941, 3060 Defense Pentagon, Washington, DC 20301-3060. Telephone 571-372-6115; facsimile 571-372-6094.

SUPPLEMENTARY INFORMATION: This final rule amends the DFARS as follows—

1. Updates the direction to contracting officers at DFARS 245.402-70 to review the guidance in DFARS Procedures, Guidance, and Information (PGI) for oversight and surveillance of contractor-acquired property; and

2. In DFARS clause 252.225-7021, Trade Agreements-Alternate II, corrects paragraph (a) definition of “designated country” to include the country of Croatia. DFARS final rule 2013-D005, Clauses with Alternates—Foreign Acquisition, published at 79 FR 65816 on November 5, 2014, created separate prescriptions for each foreign-related basic clause and provision, as well as each of its alternate clauses and provisions. In addition, the rule stated the full text of each clause or provision alternate. In the restatement of the full text of DFARS 252.225-7021-Alternate II, the country of Croatia was inadvertently omitted.

List of Subjects in 48 CFR 245 and 252

Government procurement.

Jennifer L. Hawes,
Editor, Defense Acquisition Regulations System.

Therefore, 48 CFR parts 245 and 252 are amended as follows:

1. The authority citation for 48 CFR parts 245 and 252 continues to read as follows:

Authority: 41 U.S.C. 1303 and 48 CFR chapter 1.

PART 245—GOVERNMENT PROPERTY

2. Revise section 245.402-70 to read as follows:

245.402-70 Policy.

Review the guidance at PGI 245.402-70 with regard to oversight and surveillance of contractor-acquired property.

PART 252—SOLICITATION PROVISIONS AND CONTRACT CLAUSES

252.225-7021 [Amended]

3. Amend section 252.225-7021 by, in the Alternate II clause—

a. Removing the clause date “(JUN 2016)” and adding “(AUG 2016)” in its place; and

b. In paragraph (a) definition of “designated country” in paragraph (i), adding, in alphabetical order, the country of “Croatia”.

[FR Doc. 2016-17959 Filed 8-1-16; 8:45 am]

BILLING CODE 5001-06-P